DEPARTMENT OF HEALTH AND HUMAN SERVICES

Office of the National Coordinator for Health Information Technology; HIT Standards Committee; Notice and Publication of Committee Recommendations to the National Coordinator for Health Information Technology

AGENCY: Office of the National Coordinator for Health Information Technology, HHS.

ACTION: Notice of committee recommendations and invitation for public input.

SUMMARY: This notice publishes recommendations made by the HIT Standards Committee (Committee) at its public meeting on August 20, 2009, and invites public input on the recommendations at the Committee's next meeting on September 15, 2009. The Committee is a Federal advisory committee to the Office of the National Coordinator for Health Information Technology (ONC).

Name of Committee: HIT Standards Committee.

General Function of the Committee: To provide recommendations to the National Coordinator on standards, implementation specifications, and certification criteria for the electronic exchange and use of health information for purposes of adoption, consistent with the implementation of the Federal Health IT Strategic Plan, and in accordance with policies developed by the HIT Policy Committee. Sections 3003(b)(4) and (e) of the Health Information Technology for Economic and Clinical Health (HITECH) Act requires ONC to publish the Committee's recommendations to the National Coordinator in the Federal Register and on ONC's Web site.

Contact Person: Judith Sparrow, Office of the National Coordinator, HHS, 330 C Street, SW., Washington, DC 20201, 202-205-4528, Fax: 202-690-6079, e-mail: judy.sparrow@hhs.gov.

Recommendations: During the August 20, 2009, meeting, the Committee's recommendations focused on the following areas: Clinical Quality, Clinical Operations, and Privacy and Security. All recommendations may be found at http://HealthIT.hhs.gov/standardscommittee. In addition, specific URLs for each recommendation have been listed below.

I. Clinical Quality

A. Background

The Clinical Quality recommendations pertain to the appropriate standardized performance measures that correspond to the HIT Policy Committee's 2011 Meaningful Use Measures. The recommendations include 30 quality performance measures and the data types required for each, of which National Quality Forum (NQF)-endorsed measures can either be retooled for use in an Electronic Health Record (EHR) or will require attestation for the foreseeable future.

B. Recommendations

http://healthit.hhs.gov/portal/server.pt/gateway/PTARGS_0_10741_880489_0_0_18/2011%20Measure%20Recommendations_Clinical%20Quality%20Workgroup_08202009.pdf.

II. Clinical Operations

A. Background

The Clinical Operations recommendations focus on standards for 2011 Meaningful Use, including quality data reporting, messaging formats, and all the vocabularies necessary for semantic interoperability.

B. Recommendations

http://healthit.hhs.gov/portal/server.pt/gateway/PTARGS_0_10741_880490_0_0_18/Ferguson_Clinical%20Operations%20WG%20Recommendations%20Revised%20Summary.pdf.

III. Privacy and Security

A. Background

The Privacy and Security recommendations focus on authentication, authorization, auditing and secure data transmission standards as well as Meaningful Use measures related to HIPAA compliance.

B. Recommendations

http://healthit.hhs.gov/portal/server.pt/gateway/PTARGS_0_10741_880497_0_0_18/PRIVACY%20AND%20SECURITY%20STANDARDS%20APPLICABLE%20TO%20ARRA%20REQUIREMENTS.pdf.

Procedure: Individuals wishing to make comments on the Committee's August 20, 2009, recommendations may present oral comments at the Committee's next meeting on September 15, 2009, from approximately 1 p.m. to 2 p.m./Eastern Time, at the Omni Shoreham Hotel, 2500 Calvert Street, NW., Washington, DC 20008. Comments will be limited to two (2) minutes per person. A separate notice announcing this meeting has been published in the Federal Register and provides additional information.

Authority: Sections 3003(b)(4) and (e) of Health Information Technology for Economic and Clinical Health (HITECH) Act, Title XIII of Division A of the American Recovery and Reinvestment Act of 2009 (ARRA), Public Law 111-5.

Dated: September 9, 2009.
Judith Sparrow,
Office of Programs and Coordination, Office of the National Coordinator for Health Information Technology.

[FR Doc. E9-22062 Filed 9-14-09; 8:45 am]

BILLING CODE 4150-45-P